COMMITTEE FOR PURCHASE FROM PEOPLE WHO ARE BLIND OR SEVERELY DISABLED

Procurement List Additions and Deletions

AGENCY: Committee for Purchase from People Who Are Blind or Severely Disabled.

ACTION: Additions to and Deletions from the Procurement List.

SUMMARY: This action adds to the Procurement List products and a service to be furnished by nonprofit agencies employing persons who are blind or have other severe disabilities, and deletes from the Procurement List products and services previously furnished by such agencies.

Effective Date: September 2, 2007.

ADDRESSES: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail CMTEFedReg@jwod.gov.

SUPPLEMENTARY INFORMATION:

Additions

On June 1 and June 8, 2007, the Committee for Purchase From People Who Are Blind or Severely Disabled published notice (72 FR 30542; 31805) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Notebook Security Cable

NSN: 5340-01-384-2016—Notebook Security Cable.

Coverage: 100% A-List for the total Government requirement as specified by the General Services Administration.

NPA: Alphapointe Association for the Blind, Kansas City, MO.

Contracting Activity: General Services Administration, Southwest Supply Center, Fort Worth, TX.

Retractable Markers

NSN: 7520-00-NIB-1653—chisel tip, yellow 4/PK.

NSN: 7520-00-NIB-1654—chisel tip, yellow 12/PK.

NSN: 7520-00-NIB-1663—permanent ink, chisel tip, black, 4/PK.

NSN: 7520-00-NIB-1665—permanent ink, bullet tip, 4/PK (black, red, blue, green).

NSN: 7520-00-NIB-1666—permanent ink, chisel tip, 4/PK (black, blue, red, green).

NSN: 7520-00-NIB-1773—chisel tip, 10 color set (3 yellow, 2 pink, 1 orange, 2 green, 2 blue).

NSN: 7520-00-NIB-1788—chisel tip, 5 color set (yellow, blue, pink, green, orange).

NSN: 7520-00-NIB-1789—permanent ink, bullet tip, black, 4/PK.

NSN: 7520-01-519-5769—dry erase, chisel tip, 4/PK assorted colors (black, blue, red, green).

Coverage: 100% A-List for the total Government requirement as specified by the General Services Administration.

NPA: Dallas Lighthouse for the Blind, Inc., Dallas, TX.

Contracting Activity: General Services Administration, Region 2, Office Supplies & Paper Products Acquisition Ctr, New York, NY.

Service

Service Type/Location: Facility Support Operations, Directorate of Public Works, Fort Bliss, El Paso, TX.

NPA: PRIDE Industries, Inc., Roseville, CA.

Contracting Activity: ARMY-Bliss, Fort Bliss, TX.

Deletions

On June 8, 2007 the Committee for Purchase From People Who Are Blind or Severely Disabled published notice (72 FR 31806) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Cotton, Purified

NSN: 6510-00-201-3000—Cotton, Purified.

NPA: Elwyn, Inc., Aston, PA.

Contracting Activity: Defense Supply Center Philadelphia, Philadelphia, PA.

Film, Copying, Transparent, Ink Jet Process

NSN: 7530-01-325-0618—Film, Copying, Transparent, Ink Jet Process.

Transparency Film, Xerographic

NSN: 7530-01-386-2356—Transparency Film, Xerographic w/o Strip.

NPA: Industries of the Blind, Inc., Greensboro, NC.

Contracting Activity: General Service Administration, Region 2, Office Supplies & Paper Products Acquisition Ctr, New York, NY.

Services

Service Type/Location: Completion of DD Form 1574 & 1574-1, Robins Air Force Base, Robins AFB, GA.

NPA: Good Vocations, Inc., Macon, GA.

Contracting Activity: Department of the Air Force, Robins AFB, GA.

Service Type/Location: Hearing/Grievance Examiner Services (IB), The Corporation for National & Community Service, 1201 New York Avenue, NW., Washington, DC.

NPA: Federal Dispute Resolution Center, Alexandria, VA,

Contracting Activity: The Corporation for National & Community Service, Washington, DC.

Service Type/Location: ADA Compliance Investigator, Department of Transportation , Maritime Administration Headquarters, 400 7th Street SW., Washington, DC.

NPA: Federal Dispute Resolution Center, Alexandria, VA.

Contracting Activity: Department of Transportation, Maritime Administration.

Service Type/Location: Janitorial/Custodial, Marine Corps Reserve Training Center, 3506 South Memorial Parkway, Huntsville, AL.

NPA: Huntsville Rehabilitation Foundation, Huntsville, AL.

Contracting Activity: Department of the Navy, Marine Corps Reserve Training Center, Huntsville, AL.

Service Type/Location: Litigation Support Services, U.S. Department of Agriculture, The Animal and Plant Health Inspection Services, Agriculture Marketing Service, Minneapolis, MN.

NPA: Federal Dispute Resolution Center, Alexandria, VA.

Contracting Activity: U.S. Department of Agriculture, Animal and Plant Health Inspection Services, Minneapolis, MN.

Service Type/Location: Litigation Support Services, U.S. Department of Agriculture, Food and Nutrition Service, 3101 Park Center Drive, Alexandria, VA.

NPA: Federal Dispute Resolution Center, Alexandria, VA.

Contracting Activity: U.S. Department of Agriculture, Food and Nutrition Services, Alexandria, VA.

G. John Heyer,
General Counsel.

[FR Doc. E7-15092 Filed 8-2-07; 8:45 am]

BILLING CODE 6353-01-P